DEPARTMENT OF TRANSPORTATION

Federal Highway Administration

Environmental Impact Statement: Town Boone, Watauga County, NC

AGENCY: Federal Highway Administration (FHWA). DOT.

ACTION: Notice of intent.

SUMMARY: The FHWA is issuing this notice to advise the public that an Environmental Impact Statement will be prepared for a proposed highway project within Watauga County, North Carolina.

FOR FURTHER INFORMATION CONTACT: Ms. Emily O. Lawton, Operations Engineer, Federal Highway Administration, 310 New Bern Avenue, Suite 410, Raleigh, North Carolina 27601, Telephone (919) 856-4350.

SUPPLEMENTARY INFORMATION: The FHWA, in cooperation with the North Carolina Department of Transportation (NCDOT), will prepare an Environmental Impact Statement (EIS) for the proposed improvement of US 421 to multi-lanes from NC 105 Bypass to east of SR 1514 (Bamboo Road) in Watauga County (approximately 5.3 miles). The proposed action is to upgrade this section of US 421 to a high speed, multi-lane facility. US 421, the primary east-west corridor in the north-western part of the state, connects the North Carolina coastal region (Wilmington) to the western part of the state and, ultimately, to Tennessee. This proposed project is a portion of the projects proposed for US 421 in the NCDOT's 2004-2010 Transportation Improvement Program (TIP).

Alternatives under consideration include: (1) “no-build”, (2) widening the existing facility, and (3) multiple bypass alternatives for a four-lane divided facility control of access.

Letters describing the proposed action and soliciting comments have been sent to appropriate Federal, State and local agencies. A Citizens Informational Workshop and meetings with local officials and neighborhood groups will be held in the study area. Public hearings will also be held. Information on the time and place of the public hearings will be provided in the local news media and project newsletters. The draft EIS will be available for public and agency review and comment at the time of the hearing. No formal scoping meeting is planned at this time.

To ensure the full range of issues related to the proposed action are addressed and all significant issues identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program).

Emily O. Lawton,
Operations Engineer, Raleigh, North Carolina.

[FR Doc. 03-30181 Filed 12-3-03; 8:45 am]

BILLING CODE 4910-22-M